JUDICIAL CONFERENCE OF THE UNITED STATES

Meeting of the Judicial Conference Committee on Rules of Practice and Procedure

AGENCY: Judicial Conference of the United States Committee on Rules of Practice and Procedure.

ACTION: Notice of open meeting.

SUMMARY: The Committee on Rules of Practice and Procedure will hold a two-day meeting. The meeting will be open to public observation but not participation.

DATES: January 8-9, 2015.

TIME: 8:30 a.m. to 5:00 p.m.

ADDRESSES: For specific meeting location in Phoenix, Arizona, please contact the Rules Committee Support Office at (202) 502-1820.

FOR FURTHER INFORMATION CONTACT: Jonathan C. Rose, Rules Committee Secretary, Rules Committee Support Office, Administrative Office of the United States Courts, Washington, DC 20544, telephone (202) 502-1820.

Dated: December 10, 2014.
Jonathan C. Rose,
Rules Committee Secretary.

[FR Doc. 2014-29340 Filed 12-15-14; 8:45 am]

BILLING CODE 2210-55-P